DEPARTMENT OF AGRICULTURE

Federal Crop Insurance Corporation

Funding Opportunity Title: Crop Insurance Education in Targeted States (Targeted States Program)

Announcement Type: Modification—Competitive Cooperative Agreements. This announcement modifies the Request for Application Notice published in the Federal Register, April 8, 2009 (Vol. 74, No. 66, Pages 15921-15929). The Dates and Summary portions have been modified.

CFDA Number: 10.458.

DATES: Applications are due 5 p.m. EDT, August 4, 2009.

SUMMARY: The following paragraph has been added to the beginning of the Summary portion of the April 8, 2009, Federal Register Notice: The Risk Management Agency (RMA) did not receive complete and valid application packages for the State of Vermont under the original Request for Application Notice published in the Federal Register on April 8, 2009, for the Crop Insurance Education in the Targeted States Program (Targeted States Program). RMA is re-announcing its Funding Opportunity—Request for Applications under the Targeted States Program for the State of Vermont. Applicants who previously submitted an application under the April 8, 2009, Targeted States Program Request for Applications Notice for Vermont, must reapply in accordance with the original Notice published in the Federal Register on April 8, 2009. (http://www.rma.usda.gov/aboutrma/agreements). All other portions and sections of the full text notice remain unchanged.

FOR FURTHER INFORMATION CONTACT: Applicants and other interested parties are encouraged to contact: Lydia M. Astorga, USDA-RMA-RME, 1400 Independence Avenue, SW., Stop 0808, (South Building, Room 6625), Washington, DC 20250-0808, phone: 202-260-4728, fax: 202-690-3605, e-mail: RMA.Risk-Ed@rma.usda.gov. You may also obtain information regarding this announcement from the RMA Web site at: http://www.rma.usda.gov/aboutrma/agreements/.

Signed in Washington, DC, on July 14, 2009.
William J. Murphy,
Manager, Federal Crop Insurance Corporation.

[FR Doc. E9-17188 Filed 7-17-09; 8:45 am]

BILLING CODE 3410-08-P